DEPARTMENT OF TRANSPORTATION

Federal Motor Carrier Safety Administration

[Docket No. FMCSA-2019-0016]

Qualification of Drivers; Exemption Applications; Vision

AGENCY: Federal Motor Carrier Safety Administration (FMCSA), DOT.

ACTION: Notice of denials.

SUMMARY: FMCSA announces its decision to deny applications from 91 individuals who requested an exemption from the vision standard in the Federal Motor Carrier Safety Regulations (FMCSRs) to operate a CMV in interstate commerce.

FOR FURTHER INFORMATION CONTACT: Ms. Christine A. Hydock, Chief, Medical Programs Division, (202) 366-4001, fmcsamedical@dot.gov, FMCSA, Department of Transportation, 1200 New Jersey Avenue SE, Room W64-224, Washington, DC 20590-0001. Office hours are from 8:30 a.m. to 5 p.m., ET, Monday through Friday, except Federal holidays. If you have questions regarding viewing materials in the docket, contact Docket Services, (202) 366-9826.

SUPPLEMENTARY INFORMATION:

I. Public Participation

A. Viewing Documents and Comments

To view comments, as well as any documents mentioned in this notice as being available in the docket, go to http://www.regulations.gov/docket?D=FMCSA-2019-0016 and choose the document to review. If you do not have access to the internet, you may view the docket online by visiting the Docket Operations in Room W12-140 on the ground floor of the DOT West Building, 1200 New Jersey Avenue SE, Washington, DC 20590, between 9 a.m. and 5 p.m., ET, Monday through Friday, except Federal holidays.

B. Privacy Act

In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

II. Background

FMCSA received applications from 91 individuals who requested an exemption from the vision standard in the FMCSRs.

FMCSA has evaluated the eligibility of these applicants and concluded that granting these exemptions would not provide a level of safety that would be equivalent to, or greater than, the level of safety that would be obtained by complying with § 391.41(b)(10).

III. Basis for Exemption Determination

Under 49 U.S.C. 31136(e) and 31315(b), FMCSA may grant an exemption from the FMCSRs for no longer than a 5-year period if it finds such exemption would likely achieve a level of safety that is equivalent to, or greater than, the level that would be achieved absent such exemption. FMCSA grants exemptions from the FMCSRs for a 2-year period to align with the maximum duration of a driver's medical certification.

The Agency's decision regarding these exemption applications is based on medical reports about the applicants' vision, as well as their driving records and experience driving with the vision deficiency.

IV. Conclusion

The Agency has determined that these applicants do not satisfy the eligibility criteria or meet the terms and conditions of the Federal exemption and granting these exemptions would not provide a level of safety that would be equivalent to, or greater than, the level of safety that would be obtained by complying with § 391.41(b)(10). Therefore, the 91 applicants in this notice have been denied exemptions from the physical qualification standards in § 391.41(b)(10).

Each applicant has, prior to this notice, received a letter of final disposition regarding his/her exemption request. Those decision letters fully outlined the basis for the denial and constitute final action by the Agency. This notice summarizes the Agency's recent denials as required under 49 U.S.C. 31315(b)(4) by periodically publishing names and reasons for denial.

The following three applicants did not have sufficient driving experience over the past three years under normal highway operating conditions:

Edwin C. Cassidy (CA); Chad M. Moser (IA); and Frank L. Novich, Jr. (MO)

The following 34 applicants had no experience operating a CMV:

Kevin F. Aguiar (MA)

Carlos Aliaga Molina (IA)

Beverly J. Allen (OR)

Adam E. Atkinson (WY)

Jacob A. Bigelow (WI)

Douglas Bock (PA)

Zachary M. Bolton (SC)

Jamin R. Burson (OR)

James A. Claiborne (MD)

Christian C. Cutler (CA)

Robert F. Fullwood (PA)

Fidel V. Garcia (NJ)

Nikolas K. Gehrke (MS)

Stanley A. Green (TN)

Lonnie C. Harpole (KY)

Salman A. Hassan (MN)

Kody P. Hofman (WI)

Jon B. Jantzer (WA)

Colt Jarrett (UT)

Jonathan Leonard (NC)

Alejandro Manzano Perez (CA)

Daniel L. Proud (MD)

Ronald L. Riding (KS)

Martin Sandoval (IL)

Cheryl A. Sersland (IL)

Jason D. Smith (FL)

Willie L. Smith (TX)

Felix L. Spates (AR)

Scott A. Stead (WV)

Rasan Tahirovic (ND)

Tommy J. Tinley (PA)

Eh D. Wah (WA)

Justin J. Wegner (WI)

Aubrey L. Wilson (IN)

The following 21 applicants did not have three years of experience driving a CMV on public highways with their vision deficiencies:

James D. Bersey (FL)

Joel Bonilla (KS)

Kevin A. Bretz (NH)

Kevin C. Brunk (WI)

David R. Corujo (SD)

Lewis M. Culbertson (MD)

Mark A. Darnell (KY)

Carlos E. Donahue (AR)

Steven B. Hanson (MN)

Eduardo R. Martinez (ID)

Carl J. Medlock (NE)

Gary A. Oleson (IL)

Jacob D. Rhinehart (ID)

Timothy P. Sadler (WI)

Jose G. Sayago (MI)

Bradley D. Shonkwiler (MN)

James L. Stacy (AR)

Richard H. Stout (OH)

Terrence D. Taylor (TN)

Roger D. Williams (MO)

Douglas E. Zelaya (CA)

The following seven applicants did not have three years of recent experience driving a CMV on public highways with their vision deficiencies:

Christinia J. Chapman (PA)

Wendell A. Dowdy (MO)

John D. Hulbert (AL)

William W. Johnson (WY)

Kennard D. Julien (WA)

Gary D. Larson (NE)

Christopher St. Croix (NY)

The following four applicants did not have sufficient driving experience over the past three years under normal highway operating conditions (gaps in driving record):

James M. Kivett (NC)

Kyla E. Lamb (OH)

Zachary W. Lundy (SD)

Phillip D. Parker (MN)

The following applicant two applicants were charged with moving violations in conjunction with CMV accidents:

Zane D. Elliott (WV); and Donald K. Etter (PA)

Donald K. Etter (PA) was included in a notice requesting public comment on the Agency's intent to grant an exemption (docket no. FMCSA-2019-0009). During the commenting period, the applicant was involved in a CMV crash, and failed to submit supporting documentation for review. The exemption was not granted at that time. Information relating to the crash was submitted, and application was denied for the reasons cited above.

The following two applicants contributed to accident(s) in which the applicant was operating a CMV, which is a disqualifying offense:

Eddie B. Strange (GA); and Richard C. Strassburg (NY)

The following ten applicants were denied for multiple reasons:

Joseph C. Carpenter (CA)

Tommy J. Garcia (NM)

Jerry M. Madden (TX)

Christopher J. Marden (NH)

Saul Quintero (IN)

Barry Seiwell (PA)

Rickey S. Sheppard (AL)

Gregory D. Van Ruler (MN)

Alexander L. Walls (OR)

Jorge Zambrano (NJ)

The following six applicants have not had stable vision for the preceding three-year period:

Dennis D. Coulter (OH)

Ronald D. Davis (TX)

Adrian Hernandez (CA)

James M. Simpson (MO)

Glen Sterling (LA)

Ricky D. Wright (MO)

The following two applicants drove interstate while restricted to intrastate driving:

David Guerra (TX); and Edward R. Schmocker (WI)

Issued on: October 24, 2019.
Larry W. Minor,
Associate Administrator for Policy.

[FR Doc. 2019-23766 Filed 10-30-19; 8:45 am]

BILLING CODE 4910-EX-P